FEDERAL FINANCIAL INSTITUTIONS EXAMINATION COUNCIL

12 CFR Part 1101

[Docket No. FFIEC-2017-0003]

Description of Office, Procedures, and Public Information

AGENCY: Federal Financial Institutions Examination Council (FFIEC).

ACTION: Final rule.

SUMMARY: The Federal Financial Institutions Examination Council (FFIEC or Council) is adopting as a final rule the interim final rule published July 3, 2017. The interim final rule announced revisions and additions to the Council's information disclosure regulations under the Freedom of Information Act (FOIA Regulations). The interim final rule also replaced the interim final rule published on December 27, 2016. The revisions in the interim final rule implement recent statutory amendments to the FOIA that are mandated by the FOIA Improvement Act of 2016, as well as update the language of the Council's regulations to more closely mirror the language of the FOIA and to reflect the Council's current FOIA procedures.

DATES: Effective October 2, 2017.

FOR FURTHER INFORMATION CONTACT: Ms. Judith Dupre, Executive Secretary, Federal Financial Institutions Examination Council, via telephone: (703) 516-5590, or via email: JDupre@FDIC.gov.

SUPPLEMENTARY INFORMATION: The Council ¹ is finalizing its interim rule (82 FR 30724 (July 3, 2017)), which revised its information disclosure regulations under the Freedom of Information Act ² (FOIA Regulations). On June 30, 2016, the Freedom of Information Act (FOIA) was amended by the FOIA Improvement Act of 2016 ³ (FOIA Improvement Act). Among other things, section 3 of the FOIA Improvement Act required each Federal agency to revise its disclosure regulations and procedures for processing FOIA requests in order to conform to the substantive amendments made by section 2 of the FOIA Improvement Act by December 27, 2016. Accordingly, the Council implemented the required substantive and procedural changes necessary to comply with the FOIA Improvement Act's amendments through issuance of the interim final rule (81 FR 94937 (December 27, 2016)). In addition, the Council made certain changes to its FOIA Regulations to reflect revisions brought about by prior amendments to the FOIA that were incorporated into the Council's procedures and to make the FOIA process easier for the public to navigate. In drafting these amendments to the FOIA Regulations, the Council consulted the “Guidance for Agency FOIA Regulations” issued by the U.S. Department of Justice's Office for Information Policy. No comments were received in response to the interim final rule and it is being finalized without change.

¹ The members of the Council are the Board of Governors of the Federal Reserve System, the Consumer Financial Protection Bureau, the Federal Deposit Insurance Corporation, the National Credit Union Administration, the Office of the Comptroller of the Currency, and the State Liaison Committee.

² 5 U.S.C. 552.

³ Public Law 114-185, 130 Stat. 538 (June 30, 2016).

Authority and Issuance

For the reasons set forth in the preamble, the Federal Financial Institutions Examination Council adopts as a final rule, without changes, the interim final rule amending 12 CFR 1101.4, which was published at 82 FR 30724 on July 3, 2017.

Dated: September 27, 2017.
Federal Financial Institutions Examinations Council.
Judith E. Dupre,
Executive Secretary.

[FR Doc. 2017-21050 Filed 9-29-17; 8:45 am]

BILLING CODE 7535-01-P; 6714-01-P; 6210-01-P; 4810-33-P; 4810-AM-P